DEPARTMENT OF COMMERCE

National Telecommunications and Information Administration

[Docket No. 100402174-0238-02]

RIN 0660-XA12

Information Privacy and Innovation in the Internet Economy

AGENCY: National Telecommunications and Information Administration, U.S. Department of Commerce.

ACTION: Notice of Inquiry, Comment Deadline Extension.

SUMMARY: The Department of Commerce's Internet Policy Task Force announces that the closing deadline for submission of comments responsive to the April 23, 2010 notice of inquiry on privacy and innovation has been extended until 5 p.m. Eastern Daylight Time (EDT) on June 14, 2010.

DATES: Comments are due by 5 p.m. EDT on June 14, 2010.

ADDRESSES: Written comments may be submitted by mail to the National Telecommunications and Information Administration at U.S. Department of Commerce, 1401 Constitution Avenue, NW., Room 4725, Washington, DC 20230. Submissions may be in any of the following formats: HTML, ASCII, Word, rtf, or pdf. Online submissions in electronic form may be sent to privacy-noi-2010@ntia.doc.gov. Paper submissions should include a three and one-half inch computer diskette or compact disc (CD). Diskettes or CDs should be labeled with the name and organizational affiliation of the filer and the name of the word processing program used to create the document. Comments will be posted at http://www.ntia.doc.gov/advisory/privacyinnovation.

FOR FURTHER INFORMATION CONTACT: For general questions about this amended Notice contact: Joe Gattuso, Office of Policy Analysis and Development, National Telecommunications and Information Administration, U.S. Department of Commerce, 1401 Constitution Avenue, NW., Room 4725, Washington, DC 20230, telephone (202) 482-1880; e-mail jgattuso@ntia.doc.gov. Please direct media inquires to NTIA's Office of Public Affairs at (202) 482-7002.

SUPPLEMENTARY INFORMATION: On April 21, 2010, the Department of Commerce (the “Department”) announced the launch of an initiative designed to gather public input and review the nexus between privacy policy and innovation in the Internet economy.¹ In addition, the Department announced the formation of a Commerce-wide Internet Policy Task Force (“Task Force”) to identify leading public policy and operational issues impacting the U.S. private sector's ability to realize the potential for economic growth and job creation through the Internet.

¹ Commerce Secretary Locke Announces Public Review of Privacy Policy and Innovation in the Internet Economy, Launches Internet Policy Task Force, Department of Commerce Press Release (April 21, 2010), at http://www.commerce.gov/news/press-releases?page=1.

The Privacy and Innovation Initiative of the Task Force will identify policies that enhance: (1) The clarity, transparency, scalability and flexibility needed to foster innovation in the information economy; (2) the public confidence necessary for full citizen participation with the Internet; and (3) fundamental democratic values essential to the functioning of a free market and a free society.

On April 23, 2010, the Task Force issued a notice of inquiry on privacy and innovation issues with a closing date for comments of June 7, 2010.² The Task Force announces that the closing deadline for submission of comments responsive to the April 23, 2010 notice has been extended until 5 p.m. Eastern Daylight Time (EDT) on June 14, 2010.

² See 75 FR 21, 226 (April 23, 2010).

Dated: June 3, 2010.
Lawrence E. Strickling,
Assistant Secretary for Communications and Information.

[FR Doc. 2010-13697 Filed 6-7-10; 8:45 am]

BILLING CODE 3510-60-P